DEPARTMENT OF ENERGY

Federal Energy Regulatory Commission

[Docket No. OR02-2-000]

ARCO, a Subsidiary of BP America, Inc., Complainant, v. Calnev Pipe Line, L.L.C., Respondent; Notice of Complaint

January 15, 2002.

Take notice that on January 14, 2002, pursuant to Rule 206 of the Federal Energy Regulatory Commission's (Commission) Rules of Practice and Procedure (18 CFR 385.206) and the Procedural Rules Applicable to Oil Pipeline Procedures (18 CFR 343, et seq.), Tosco Corporation (Tosco) filed a Complaint and Motion for Consolidation in the above captioned proceeding. Tosco alleges that Calnev Pipe Line, L.L.C. (Calnev) has violated the Interstate Commerce Act, 49 U.S.C. App. 1, et seq., by charging unjust and unreasonable rates for Calnev's jurisdictional interstate services associated with its lines originating at Colton in San Bernardino County, California, to stations at two interstate destinations in Clark County, Nevada, one at McCarran Field and the other at North Las Vegas as more fully set forth in the Complaint. To the extent that any of Calnev's rates may be deemed just and reasonable under § 1803 of the Energy Policy Act of 1992, Pub. L. No. 102-486, 106 Stat. 2776 (1992), Tosco alleges that there has been a substantial change in the economic circumstances on which the rates are based.

Tosco requests that the Commission: (1) Examine the challenged rates and charges collected by Calnev for its jurisdictional interstate services; (2) order reparations to Tosco, including appropriate interest thereon, for the applicable reparation periods to the extent the Commission finds that such rates or charges were unlawful; (3) determine just, reasonable, and nondiscriminatory rates for Calnev's jurisdictional interstate service; (4) award Tosco reasonable attorneys' fees and costs; and (5) order such other relief as may be appropriate.

Tosco states that it has served the Complaint on Calnev pursuant to Rule 206 of the Commission's Rules of Practice and Procedure, 18 CFR 385.206(c).

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before February 4, 2002. Protests will be considered by the Commission in determining the appropriate action to be taken, but will not serve to make protestants parties to the proceeding. Any person wishing to become a party must file a motion to intervene. Answers to the complaint shall also be due on or before February 4, 2002. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-1466 Filed 1-18-02; 8:45 am]

BILLING CODE 6717-01-P